NUCLEAR REGULATORY COMMISSION

[Docket No. 040-07354]

Notice of Availability of Environmental Assessment and Finding of No Significant Impact for License Amendment to Source Materials License No. SUB-834, To Authorize Disposal, in Accordance With 10 CFR 20.2002, of Contaminated Military Vehicles by the Department of the Army, U.S. Army Aberdeen Test Center Facility, Aberdeen Proving Ground, MD

AGENCY: Nuclear Regulatory Commission.

ACTION: Issuance of Environmental Assessment and Finding of No Significant Impact for License Amendment.

FOR FURTHER INFORMATION CONTACT: Betsy Ullrich, Senior Health Physicist, Commercial and R&D Branch, Division of Nuclear Materials Safety, Region I, 475 Allendale Road, King of Prussia, Pennsylvania; telephone (610) 337-5040; fax number (610) 337-5269; or by e-mail: exu@nrc.gov.

SUPPLEMENTARY INFORMATION:

I. Introduction

The U.S. Nuclear Regulatory Commission (NRC) is considering the issuance of a license amendment to Source Materials License No. SUB-834. This license is held by the Department of the Army Aberdeen Test Center (the Licensee), for its facility located at the Aberdeen Proving Ground, Maryland. License No. SUB-834 was issued to the Army on April 11, 1961, pursuant to 10 CFR Part 40, and has been amended periodically since that time. This license authorizes the Licensee to use uranium and thorium for purposes of conducting research and development activities with military equipment.

In accordance with 10 CFR 20.2002 and 10 CFR 40.14, issuance of the license amendment would authorize the transfer and off-site disposal of two M2A2 Bradley Fighting Vehicles which are contaminated with depleted uranium. As discussed further below, the two vehicles would be disposed of at U.S. Ecology, a Subtitle C Resource Conservation and Recovery Act (RCRA) hazardous waste disposal facility in Idaho. The Licensee requested this action in a letter dated September 13, 2005. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's September 13, 2005, license amendment request that transfer of its two M2A2 Bradley Fighting Vehicles to U.S. Ecology's disposal facility be authorized. In addition to granting the licensee's license amendment request, the proposed action would also grant, pursuant to 10 CFR 40.14, an exemption to U.S. Ecology from 10 CFR Part 40 licensing requirements. 10 CFR 40.14 provides that the Commission may, upon application by an interested person, “or upon its own initiative, grant such exemptions” from the 10 CFR Part 40 requirements “as it determines are authorized by law and will not endanger life or property or the common defense and security and are otherwise in the public interest.” Under the exemption granted to U.S. Ecology any depleted uranium on the two vehicles would, upon their receipt at U.S. Ecology's disposal facility, no longer be subject to NRC regulation and would no longer be NRC licensed material. The 10 CFR 40.14 exemption in this case is equivalent to (1) prior EA determinations on 10 CFR 20.2002 requests in which disposal of depleted uranium at RCRA hazardous waste disposal facilities were approved; and (2) previous related exemptions to the effect that the materials at issue were exempt from further Atomic Energy Act and NRC licensing requirements.

Need for the Proposed Action

The Licensee needs this license change in order to dispose of the two M2A2 Bradley Fighting Vehicles that are contaminated with hazardous wastes at an appropriate facility. The two vehicles also have low-level contamination from depleted uranium, specifically, less than 800 microcuries total depleted uranium on a total mass of 58,000 pounds in 2,800 cubic feet of material. NRC is fulfilling its responsibilities under the Atomic Energy Act to make a timely decision on a proposed license amendment that ensures protection of public health and safety and the environment.

Environmental Impacts of the Proposed Action

The NRC staff has reviewed the evaluation performed by the Licensee to demonstrate compliance with the 10 CFR 20.2002 alternate disposal criteria. Under these criteria, a licensee may seek NRC authorization to dispose of licensed material using procedures not otherwise authorized by the NRC's regulations. A licensee's supporting analysis must show that the radiological doses arising from the proposed 10 CFR 20.2002 disposal will be as low as reasonably achievable and within the 10 CFR part 20 dose limits.

The disposal of the military vehicle debris containing less than 800 microcuries of depleted uranium will result in a dose of less than 1 millirem to a member of the public. Based on its review, the staff has determined that the affected environment and environmental impacts associated with the proposed action will not significantly increase the probability or consequences of accidents. No changes are being made in the types of any effluents that may be released off site, and there is no significant increase in occupational or public radiation exposure. Based on its review, the NRC staff considered the impact of the residual radioactivity at the disposal site. The NRC has identified no other radiological or non-radiological activities in the area that could result in cumulative environmental impacts, and concludes that the proposed action will not have a significant effect on the quality of the human environment.

Environmental Impacts of the Alternatives to the Proposed Action

Due to the very small amounts of radioactive material involved, the environmental impacts of the proposed action are small. Therefore, the only alternative the staff considered is the no-action alternative, under which the staff would leave things as they are by simply denying the amendment request. This denial of the application would result in no change in current environmental impacts. The environmental impacts of the proposed action and the no-action alternative are therefore similar and the no-action alternative is accordingly not further considered.

Conclusion

The NRC staff has concluded that the proposed action will not significantly impact the quality of the human environment, and that the proposed action is the preferred alternative.

Agencies and Persons Consulted

NRC provided a draft of this Environmental Assessment to the State of Idaho Department of Environmental Quality for review on May 10, 2006. On July 28, 2006, the State responded by letter. The State agreed with the health and safety conclusions of the EA, but provided comments as to NRC jurisdiction of the material at U.S. Ecology. The NRC revised the EA to explain that pursuant to the proposed exemption, the material, upon its receipt at U.S. Ecology's disposal facility, would no longer be NRC licensed material and would thus no longer be subject to NRC regulation.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

(1) Letter dated September 13, 2005, with Attachment 1 “Aberdeen Proving Ground Request for Approval of Proposed Procedures in accordance with 10 CFR 20.2002”, Enclosure 2, “MicroShield Exposure Rates for Hypothetical Transportation Worker, Members of the General Public, and Disposal Facility Workers”, and Enclosure 3, “RESRAD Computer code Summary Report Resident Farmer” [ADAMS Accession No. ML052870504].

(2) Technical Review of Code of Federal Regulations (10 CFR) part 20.2002 Request by Aberdeen Test Center [ML060310247] and Safety Evaluation Report: 10 CFR 20.2002 Request By Aberdeen Test Center [ML060310257].

(3) Title 10 Code of Federal Regulations, part 20, “Standards for Protection Against Radiation.”

(4) Title 10, Code of Federal Regulations, part 51, “Environmental Protection Regulations for Domestic Licensing and Related Regulatory Functions”.

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at King of Prussia, Pennsylvania this 1st day of September 2006.
For the Nuclear Regulatory Commission.
James P. Dwyer,
Chief, Commercial and R&D Branch, Division of Nuclear Materials Safety, Region I.

[FR Doc. E6-15132 Filed 9-12-06; 8:45 am]

BILLING CODE 7590-01-P